DEPARTMENT OF COMMERCE

Foreign-Trade Zones Board

[S-215-2019]

Approval of Subzone Expansion; Flemish Master Weavers; Sanford, Maine

On October 18, 2019, the Executive Secretary of the Foreign-Trade Zones (FTZ) Board docketed an application submitted by the City of Waterville, grantee of FTZ 186, requesting an expansion of Subzone 186A subject to the existing activation limit of FTZ 186 on behalf of Flemish Master Weavers, in Sanford, Maine.

The application was processed in accordance with the FTZ Act and Regulations, including notice in the Federal Register inviting public comment (84 FR 57391-57392, October 25, 2019). The FTZ staff examiner reviewed the application and determined that it meets the criteria for approval. Pursuant to the authority delegated to the FTZ Board Executive Secretary (15 CFR 400.36(f)), the application to expand Subzone 186A was approved on December 13, 2019, subject to the FTZ Act and the Board's regulations, including Section 400.13, and further subject to FTZ 186's 2,000-acre activation limit.

Dated: December 13, 2019.
Elizabeth Whiteman,
Acting Executive Secretary.

[FR Doc. 2019-27795 Filed 12-23-19; 8:45 am]

BILLING CODE 3510-DS-P